DEPARTMENT OF TRANSPORTATION

Federal Aviation Administration

14 CFR Part 39

[Docket No. 99-NM-351-AD; Amendment 39-11791; AD 2000-12-13]

RIN 2120-AA64

Airworthiness Directives; Airbus Model A319, A320, and A321 Series Airplanes

AGENCY: Federal Aviation Administration, DOT.

ACTION: Final rule.

SUMMARY: This amendment supersedes an existing airworthiness directive (AD), applicable to certain Airbus Model A319, A320, and A321 series airplanes, that currently requires revising the FAA-approved Airplane Flight Manual (AFM) to increase monitoring of the flight path of the airplane to detect certain software anomalies of the flight management guidance system, and take appropriate corrective actions. This amendment adds a requirement to either modify the existing on-board replaceable modules of the flight management guidance computers (FMGC) to incorporate software changes, or replace the FMGC's with new, improved FMGC's; which would terminate the requirements for the AFM revision. This amendment is prompted by the issuance of mandatory continuing airworthiness information by a foreign civil airworthiness authority. The actions specified by this AD are intended to prevent erroneous navigational calculations, which could result in an increased risk of collision with terrain or other airplanes.

DATES: Effective July 24, 2000.

The incorporation by reference of certain publications listed in the regulations is approved by the Director of the Federal Register as of July 24, 2000.

The incorporation by reference of certain other publications, as listed in the regulations, was approved previously by the Director of the Federal Register as of November 3, 1997 (62 FR 53939, October 17, 1997).

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) by superseding 97-21-10, amendment 39-10163 (62 FR 53939, October 17, 1997), which is applicable to certain Airbus Model A319, A320, and A321 series airplanes, was published in the Federal Register on April 14, 2000 (65 FR 20105). The action proposed to continue to require a revision to the Airplane Flight Manual (AFM) to increase monitoring of the flight path of the airplane to detect certain software anomalies of the flight management guidance system, and take appropriate corrective actions. The action proposed to add a requirement to either modify all existing on-board replaceable modules of the FMGC's to incorporate software changes, or replace all existing FMGC's with new, improved FMGC's; which would terminate the requirements for the AFM revision. The action also proposed to limit the applicability of the existing AD to airplanes on which a certain modification has been installed or service bulletin has been accomplished, and to exclude airplanes on which another modification has been installed or service bulletin has been accomplished.

Interested persons have been afforded an opportunity to participate in the making of this amendment. Due consideration has been given to the comments received.

Support for the Proposal

One commenter, the manufacturer, concurs with the content of the proposal.

Later Revision of French Airworthiness Directive

The same commenter states that related French airworthiness directive 1999-411-140(B) has been revised to Revision 1, dated May 3, 2000, to include in the applicability Airbus Model A319 and A320 series airplanes having Airbus Modification 26717. The commenter notes that the proposed AD already includes these airplanes in its applicability, but suggests that the AD be revised to refer to the latest revision of the French airworthiness directive.

The FAA concurs that Revision 1 of the related French airworthiness directive matches the applicability of this AD and should be referenced for completeness. Note 4 of the final rule has been revised to include a reference to Revision 1 of the French airworthiness directive.

Conclusion

After careful review of the available data, including the comments noted above, the FAA has determined that air safety and the public interest require the adoption of the rule with the change previously described. The FAA has determined that this change will neither increase the economic burden on any operator nor increase the scope of the AD.

Cost Impact

There are approximately 200 airplanes of U.S. registry that will be affected by this AD.

The actions that are currently required by AD 97-21-10 take approximately 1 work hour per airplane to accomplish, at an average labor rate of $60 per work hour. Required parts will be provided by the manufacturer at no charge to the operators. Based on these figures, the cost impact of the previously required actions on U.S. operators is estimated to be $60 per airplane.

The new actions that are required by this new AD will take approximately 1 work hour per airplane to accomplish, at an average labor rate of $60 per work hour. Based on these figures, the cost impact of the new requirements of this AD on U.S. operators is estimated to be $12,000, or $60 per airplane.

The cost impact figures discussed above are based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action: (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10163 (62 FR 53939, October 17, 1997), and by adding a new airworthiness directive (AD), amendment 39-11791, to read as follows:

2000-12-13 Airbus Industrie: Amendment 39-11791. Docket 99-NM-351-AD. Supersedes AD 97-21-10, Amendment 39-10163.

Applicability: Model A319, A320, and A321 series airplanes; certificated in any category; on which any of the Airbus modifications has been installed or any of the Airbus service bulletins has been accomplished, as listed in the following table; except those airplanes on which Airbus Modification 26716, 26799, 26968, or 27831 has been installed; or except those airplanes on which Airbus Service Bulletin A320-22-1063, A320-22-1064, A320-22-1065, A320-22-1067, A320-22-1068, or A320-22-1069 has been accomplished:

Affected model(s) | Airbus modification installed
A319 and A321 | 25469 (reference Airbus Service Bulletin A320-22-1054).
A319, A320, and A321 | 26093.
A320 | 24065 (reference Airbus Service Bulletin A320-22-1040) or 24067 (reference Airbus Service Bulletin A320-22-1039).
A320 | 25314 (reference Airbus Service Bulletin A320-22-1051) or 25315 (reference Airbus Service Bulletin A320-22-1050).
A320 and A321 | 24064 (reference Airbus Service Bulletin A320-22-1034) or 24066 (reference Airbus Service Bulletin A320-22-1029).
A320 and A321 | 25199 (reference Airbus Service Bulletin A320-22-1045) or 25200 (reference Airbus Service Bulletin A320-22-1046).
A320 and A321 | 25240 (reference Airbus Service Bulletin A320-22-1033) or 25274 (reference Airbus Service Bulletin A320-22-1056).
A319, A320, and A321 | 26243.
A319 and A320 | 26717.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (e)(1) of this AD. The request should include an assessment of the effect of the modification, alteration, or repair on the unsafe condition addressed by this AD; and, if the unsafe condition has not been eliminated, the request should include specific proposed actions to address it.

Compliance: Required as indicated, unless accomplished previously.

To prevent erroneous navigational calculations, which could result in an increased risk of collision with terrain or other airplanes, accomplish the following:

Restatement of Requirements of AD 97-21-10

(a) Within 10 days after November 3, 1997 (the effective date of AD 97-21-10, amendment 39-10163), revise the Normal Procedures Section of the FAA-approved Airplane Flight Manual (AFM) by inserting a copy of Model A319/320/321 Flight Manual Temporary Revision 4.03.00/02, dated May 28, 1997, into the AFM.

Note 2: When the temporary revision specified in paragraph (a) of this AD has been incorporated into the general revisions of the AFM, the general revisions may be inserted in the AFM, provided the information contained in the general revisions is identical to that specified in Model A319/320/321 Flight Manual Temporary Revision 4.03.00/02.

New Requirements of this AD

(b) Within 18 months after the effective date of this AD, accomplish either paragraph (b)(1) or (b)(2) of this AD, in accordance with Airbus Service Bulletin A320-22-1063, Revision 01, dated October 8, 1999; A320-22-1064, dated September 15, 1998; A320-22-1065, dated October 28, 1998; A320-22-1067, Revision 01, dated July 7, 1999; A320-22-1068, dated December 9, 1998; or A320-22-1069, dated February 1, 1999; as applicable. Following accomplishment of either paragraph (b)(1) or (b)(2) of this AD, the AFM revision required by paragraph (a) of this AD may be removed from the AFM.

(1) Modify all existing on-board replaceable modules of the flight management guidance computers (FMGC) to incorporate software changes in accordance with the Accomplishment Instructions of the applicable service bulletin.

(2) Replace all existing FMGC's with new, improved FMGC's in accordance with the Accomplishment Instructions of the applicable service bulletin.

(c) Accomplishment of either the modification or replacement action required by paragraph (b) of this AD constitutes terminating action for the AFM requirements of paragraph (a) of AD 98-19-08, amendment 39-10750. Following accomplishment of either of those actions, remove the FAA-approved AFM revision required by that AD (Airbus A319/320/321 Airplane Flight Manual Temporary Revision 9.99.99/44, Issue 2, dated March 3, 1998).

Spares

(d) As of the effective date of this AD, no person shall install any FMGC part number B546BAM0205, B546CAM0101, B546BCM0204, B398BAM0207, B398AAM0410, B546CCM0101, B546CCM0102, B546CCM0103, or B398BCM0107; unless it has been modified in accordance with this AD.

Alternative Methods of Compliance

(e)(1) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

(2) Alternative methods of compliance, approved previously in accordance with AD 97-21-10, amendment 39-10163, are approved as alternative methods of compliance with paragraph (a) of this AD.

Note 3: Information concerning the existence of approved alternative methods of compliance with this AD, if any, may be obtained from the International Branch, ANM-116.

Special Flight Permits

(f) Special flight permits may be issued in accordance with §§ 21.197 and 21.199 of the Federal Aviation Regulations (14 CFR 21.197 and 21.199) to operate the airplane to a location where the requirements of this AD can be accomplished.

Incorporation by Reference

(g) The actions shall be done in accordance with Model A319/320/321 Flight Manual Temporary Revision 4.03.00/02, dated May 28, 1997; Airbus Service Bulletin A320-22-1063, Revision 01, dated October 8, 1999; Airbus Service Bulletin A320-22-1064, dated September 15, 1998; Airbus Service Bulletin A320-22-1065, dated October 28, 1998; Airbus Service Bulletin A320-22-1067, Revision 01, dated July 7, 1999; Airbus Service Bulletin A320-22-1068, dated December 9, 1998; and Airbus Service Bulletin A320-22-1069, dated February 1, 1999; as applicable.

(1) The incorporation by reference of Airbus Service Bulletin A320-22-1063, Revision 01, dated October 8, 1999; Airbus Service Bulletin A320-22-1064, dated September 15, 1998; Airbus Service Bulletin A320-22-1065, dated October 28, 1998; Airbus Service Bulletin A320-22-1067, Revision 01, dated July 7, 1999; Airbus Service Bulletin A320-22-1068, dated December 9, 1998; and Airbus Service Bulletin A320-22-1069, dated February 1, 1999; is approved by the Director of the Federal Register in accordance with 5 U.S.C. 552(a) and 1 CFR part 51.

(2) The incorporation by reference of Model A319/320/321 Flight Manual Temporary Revision 4.03.00/02, dated May 28, 1997, was approved previously by the Director of the Federal Register as of November 3, 1997 (62 FR 53939, October 17, 1997).

(3) Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 1999-411-140(B), dated October 20, 1999, and Revision 1, dated May 3, 2000.

(h) This amendment becomes effective on July 24, 2000.

Issued in Renton, Washington, on June 9, 2000.
Donald L. Riggin,
Acting Manager, Transport Airplane Directorate, Aircraft Certification Service.

[FR Doc. 00-15182 Filed 6-16-00; 8:45 am]

BILLING CODE 4910-13-U